DEPARTMENT OF THE TREASURY

Submission for OMB Review; Comment Request

January 16, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 23, 2004 to be assured of consideration.

Internal Revenue Service (IRS)

OMB Number: 1545-0159.

Form Number: IRS Form 3520.

Type of Review: Extension.

Title: Annual Return to Report Transactions With Foreign Trusts and Receipt of Certain Foreign Gifts.

Description: Form 3520 is filed by U.S. persons who create a foreign trust, transfer properly to a foreign trust, receive a distribution from a foreign trust, or receive a large gift from a foreign source. IRS uses the form to identify U.S. persons who may have transactions that may trigger a taxable event in the future.

Respondents: Business or other for-profit.

Estimated Number of Respondents/Recordkeepers: 2,000.

Estimated Burden Hours Respondent/Recordkeeper:

Recordkeeping—42 hr., 34 min.

Learning about the law or the form—4 hr., 38 min.

Preparing the form—6 hr., 28 min.

Sending the form to the IRS—18 min.

Frequency of Response: Annually.

Estimated Total Reporting/Recordkeeping Burden: 108,300 hours.

OMB Number: 1545-1224.

Regulation Project Number: INTL-112-88 Final.

Type of Review: Extension.

Title: Allocation and Apportionment of Deduction for State Income Taxes.

Description: This regulation provides guidance on when and how the deduction for state income taxes is to be allocated and proportioned between gross income from sources within and without the United States in order to determine the amount of taxable income from those sources. The reporting requirements in the regulation affect those taxpayers claiming foreign tax credits who elect to use an alternative method from that described in the regulation to allocate and apportion deductions for state income taxes.

Respondents: Business or other for-profit.

Estimated Number of Respondents: 1,000.

Estimated Burden Hours Respondent: 1 hour.

Frequency of Response: Annually.

Estimated Total Reporting Burden: 1,000 hours.

OMB Number: 1545-1566.

Notice Number: Notice 97-66.

Type of Review: Extension.

Title: Certain Payments Made Pursuant to a Securities Lending Transaction.

Description: Notice 97-66 modifies final regulations which are effective November 145, 1997. The Notices relaxes the statement requirement with respect to substitute interest payments relating to securities loans and repurchased transactions. It also provides a withholding mechanism to eliminate excessive withholding on multiple payments in a chain of substitute dividend payments.

Respondents: Business or other for-profit, Not-for-profit-institutions.

Estimated Number of Respondents: 377,500.

Estimated Burden Hours Respondent: 10 minutes.

Frequency of Response: Other (once).

Estimated Total Reporting Burden: 61,750 hours.

Clearance Officer: Robert M. Coar, (202) 622-3579, Internal Revenue Service, Room 6411, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-1427 Filed 1-22-04; 8:45 am]

BILLING CODE 4830-01-P